DEPARTMENT OF HEALTH AND HUMAN SERVICES

National Institutes of Health

Proposed Collection; Comment Request; Survey of Non-Federal Funding Sources for Cancer CAM Research

SUMMARY: In compliance with the requirement of section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection: Title: Survey of Non-Federal Funding Sources for Cancer Complementary and Alternative Medicine (CAM) Research. Type of Information Collection Request: NEW. Need and Use of Information Collection: The goal of this study is to collect information that will allow the NCI Office of Cancer Complementary and Alternative Medicine (OCCAM) to develop a directory of organizations external to the Federal Government that offer funding for cancer CAM research. This study will assist OCCAM in its mission to increase the quality of cancer CAM research supported by the NCI. One of the hurdles that many cancer CAM researchers encounter is the difficulty of obtaining research funding—and in particular, the difficulty of obtaining Federal funding for foundational or exploratory research. Often, researchers must obtain their initial funding through non-Federal sources, so that they can demonstrate proof of concept, which can be a pre-condition of obtaining Federal funds. The funding directory that is developed through this study will provide cancer CAM researchers with a resource that they can use to identify non-Federal funding sources, and target the funding sources that are most closely aligned with their research objectives. Frequency of Response: Semiannual. Affected Public: Nonprofit organizations; Businesses or other for-profit organizations; Type of Respondents: Organizations (other than Federal Government) that offer funding for cancer CAM research and have an open grant application process. The annual reporting burden is as follows: Estimated Number of Respondents: 200; Estimated Number of Responses per Respondent: 2 per year; Average Burden Hours Per Response: .25; and Estimated Total Annual Burden Hours Requested: 100. The annualized cost to respondents is estimated at: $2000 (assumes $20 hourly rate × 100 hours). There are no Capital Costs to report. There are no Operating or Maintenance Costs to report.

Type of respondents | Estimated number of respondents | Estimated number of responses per respondent (annual estimate) | Average burden hours per response | Estimated total annual burden hours requested
Nonprofit organizations | 150 | 2 | .25 | 75
Businesses or other for-profit organizations | 50 | 2 | .25 | 25
Total |  |  |  | 100

Request for Comments: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

FOR FURTHER INFORMATION CONTACT: To request more information on the proposed project or to obtain a copy of the data collection plans and instruments, contact Dr. Jeffrey White, Director, OCCAM, NCI, NIH, 6116 Executive Plaza North, Suite 600, MSC 8339, Bethesda, MD 20852, or call non-toll-free number (301) 435-7980 or E-mail your request, including your address to: jeffreyw@mail.nih.gov.

Comments Due Date: Comments regarding this information collection are best assured of having their full effect if received within 60 days of the date of this publication.

Dated: January 12, 2006.
Rachelle Ragland-Greene,
NCI Project Clearance Liaison, National Institutes of Health.

[FR Doc. E6-591 Filed 1-19-06; 8:45 am]

BILLING CODE 4167-01-P